DEPARTMENT OF TRANSPORTATION

Office of the Secretary

[Docket OST-2003-14525]

Application of Reliant Airlines, Inc. and Kalitta Charters II, LLC, for Transfer of Certificate Authority

AGENCY: Department of Transportation.

ACTION: Notice of order to show cause (Order 2003-7-37).

SUMMARY: The Department of Transportation is directing all interested persons to show cause why it should not issue an order finding Kalitta Charters II, LLC, fit, willing, and able, and transferring to it the all-cargo authority contained in the interstate and foreign cargo charter certificates currently issued to Reliant Airlines, Inc.

DATES: Persons wishing to file objections should do so no later than August 13, 2003.

ADDRESSES: Objections and answers to objections should be filed in Docket OST-2003-14525 and addressed to the Department of Transportation Dockets (M-30, Room PL-401), U.S. Department of Transportation, 400 Seventh Street, SW., Washington, DC 20590, and should be served upon the parties listed in Attachment A to the order.

FOR FURTHER INFORMATION CONTACT: Ms. Delores King, Air Carrier Fitness Division (X-56, Room 6401), U.S. Department of Transportation, 400 Seventh Street, SW., Washington, DC 20590, (202) 366-2343.

Dated: July 30, 2003.
Michael W. Reynolds,
Acting Assistant Secretary for Aviation and International Affairs.

[FR Doc. 03-19899 Filed 8-4-03; 8:45 am]

BILLING CODE 4910-62-P